ENVIRONMENTAL PROTECTION AGENCY

[EPA-HQ-OPP-2016-0630; FRL-9967-07-OEI]

Agency Information Collection Activities; Compliance Requirement for Child-Resistant Packaging; Submitted to OMB for Review and Approval; Comment Request

AGENCY: Environmental Protection Agency (EPA).

ACTION: Notice.

SUMMARY: EPA has submitted the following information collection request (ICR) to the Office of Management and Budget (OMB) for review and approval in accordance with the Paperwork Reduction Act (PRA): “Compliance Requirement for Child-Resistant Packaging” and identified by EPA ICR No. 0616.12 and OMB Control No. 2070-0052. The ICR, which is available in the docket along with other related materials, provides a detailed explanation of the collection activities and the burden estimate that is only briefly summarized in this document. EPA has addressed the comments received in response to the previously provided public review opportunity issued in the Federal Register on November 29, 2016 (81 FR 85951). With this submission, EPA is providing an additional 30 days for public review.

DATES: Additional comments may be submitted on or before January 12, 2018.

ADDRESSES: Submit your comments, referencing Docket ID Number EPA-HQ-OPP-2016-0630, to both EPA and OMB as follows:

• To EPA online using http://www.regulations.gov (our preferred method) or by mail to: EPA Docket Center, Environmental Protection Agency, Mail Code 28221T, 1200 Pennsylvania Ave. NW, Washington, DC 20460.

• To OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Joe Hogue, Field and External Affairs Division, Office of Pesticide Programs, 7506P, Environmental Protection Agency, 1200 Pennsylvania Ave. NW, Washington, DC 20460; telephone number: 703-308-9072; email address: hogue.joe@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: OMB approval for this ICR expired on July 1, 2017, due to administrative error. This action is a request to reinstate OMB approval for the information collection activities outlined in this document. Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This information collection program is designed to provide the EPA with assurances that the packaging of pesticide products sold and distributed to the general public in the United States meets standards set forth by the Agency pursuant to the Federal Insecticide, Fungicide, and Rodenticide Act (FIFRA). Registrants of such pesticide products must certify to the Agency that the packaging or device meets these standards, in order to protect children and adults from serious illness or injury resulting from accidental ingestion or contact. The law requires that these standards are designed to be consistent with those under the Poison Prevention Packaging Act, administered by the Consumer Product Safety Commission (CPSC). Unless a pesticide product qualifies for an exemption, if the product meets certain criteria regarding toxicity and use, it must be sold and distributed in child-resistant packaging (CRP). The authority for this information collection is pursuant to Section 25(c)(3) of the FIFRA.

Respondents/affected entities: Respondents include entities involved in manufacturing of pesticide chemicals, wholesale merchandising of pesticide products, or pest management activities who submit CRP applications. The North American Industrial Classification System (NAICS) codes for respondents under this ICR include 325320 (Pesticide and other Agricultural Chemical Manufacturing), 424690 (Other Chemical and Allied Products Merchant Wholesalers), and 561710 (Exterminating and Pest Control Services). EPA recognizes that this list may not be comprehensive.

Respondent's obligation to respond: Mandatory.

Estimated number of respondents: 31 (total).

Frequency of response: On occasion.

Estimated total burden: 3,535 hours (per year). Burden is defined at 5 CFR 1320.03(b).

Estimated total cost: $249,292 (per year), includes $0 annualized capital or operation & maintenance costs.

Changes in the Estimates: There is a decrease of 1,972 hours in the total estimated respondent burden compared with the ICR currently approved by OMB. This decrease reflects EPA's updating of burden estimates for this collection, including an increase in the estimated burden per response, and a decrease in the number of responses per year. This change is an adjustment.

Courtney Kerwin,
Director, Regulatory Support Division.

[FR Doc. 2017-26776 Filed 12-12-17; 8:45 am]

BILLING CODE 6560-50-P